DEPARTMENT OF COMMERCE

National Oceanic and Atmospheric Administration

RIN 0648-XC115

Gulf of Mexico Fishery Management Council; Public Hearings

AGENCY: National Marine Fisheries Service (NMFS), National Oceanic and Atmospheric Administration (NOAA), Commerce.

ACTION: Council to convene public hearings.

SUMMARY: The Gulf of Mexico Fishery Management Council (Council) will convene public hearings on a proposed generic amendment addressing Federal seafood dealer permits.

DATES: The public hearings will be held from August 6-9, 2012 at nine locations throughout the Gulf of Mexico. The public hearings will begin at 6 p.m. and will conclude no later than 9 p.m. For specific dates, see SUPPLEMENTARY INFORMATION.

ADDRESSES: The public hearings will be held in the following locations: Tampa, Key West and Panama City, FL; Houma, LA; Biloxi, MS; Mobile, AL; Brownsville, Galveston and Corpus Christi, TX.

Council address: Gulf of Mexico Fishery Management Council, 2203 N. Lois Avenue, Suite 1100, Tampa, FL 33607.

FOR FURTHER INFORMATION CONTACT: Dr. John Froeschke, Fishery Biologist-Statistician; Gulf of Mexico Fishery Management Council; telephone: (813) 348-1630 x235.

SUPPLEMENTARY INFORMATION: The Gulf of Mexico Fishery Management Council will convene Public Hearings on a proposed generic amendment addressing Federal seafood dealer permits. A seafood dealer is the person who first receives fish by way of purchase, barter, or trade. Seafood dealers buy product from commercial fishermen and sell directly to restaurants, markets, other dealers, processors, or consumers without substantially altering the product. NOAA Fisheries Service issues Federal dealer permits on an annual basis to those individuals or organizations that wish to become a seafood dealer. The Gulf Council is considering changes the current permit and reporting requirements for those individuals or organizations that purchase species managed by the Gulf of Mexico and South Atlantic Councils to ensure landings of managed fish stocks are recorded accurately and in a timely manner so annual catch limits are not exceeded. Modification of fishery management plans would affect species managed solely by the Gulf of Mexico Council or the South Atlantic Councils, as well as species managed by both Councils.

The nine public hearings will begin at 6 p.m. and conclude at the end of public testimony or no later than 9 p.m. at the following locations:

Monday, August 6, 2012

Hilton Tampa Airport Westshore Hotel, 2225 N. Lois Avenue, Tampa, FL 33607, telephone: (813) 877-6688;

Lady Anderson/Captain Anderson Marina, 5550 N. Lagoon Drive, Panama City Beach, FL 32408; telephone: (850) 234-3435.

Tuesday, August 7, 2012

Courtyard Marriott, 3955 N. Expressway 77/83, Brownsville, TX 78520, telephone: (956) 350-4600;

Courtyard Marriott, 1000 W. I-65 Service Road South, Mobile, AL 36609, telephone: (251) 344-5200.

Wednesday, August 8, 2012

Harvey Government Center, 1200 Truman Avenue, Key West, FL 33040, telephone: (305) 295-5000;

Courtyard Marriott D'Iberville, 11471 Cinema Drive, D'Iberville, MS 39540, telephone: (228) 392-1200;

Omni Corpus Christi, 900 N. Shoreline Boulevard, Corpus Christi, TX 78401, telephone: (361) 887-1600.

Thursday, August 9, 2012

Hilton Galveston, 5400 Seawall Boulevard, Galveston Island, TX 77551, telephone: (409) 744-5000; and

Courtyard Marriott, 142 Library Drive, Houma, LA 70360, telephone: (985) 223-8996.

Copies of the scoping documents can be obtained by calling (813) 348-1630 or by visiting the Council's Web site at www.gulfcouncil.org.

Special Accommodations

These meetings are physically accessible to people with disabilities. Requests for sign language interpretation or other auxiliary aids should be directed to Kathy Pereira at the Council (see ADDRESSES) at least 5 working days prior to the meeting.

Dated: July 17, 2012.
Tracey L. Thompson,
Acting Deputy Director, Office of Sustainable Fisheries, National Marine Fisheries Service.

[FR Doc. 2012-17683 Filed 7-19-12; 8:45 am]

BILLING CODE 3510-22-P